DEPARTMENT OF AGRICULTURE

Rural Housing Service

Notice of Request for Extension of a Currently Approved Information Collection

AGENCY: Rural Housing Service (RHS).

ACTION: Proposed collection; comments requested.

SUMMARY: In accordance with the Paperwork Reduction Act of 1995, this notice announces the Rural Housing Service's intention to request an extension for a currently approved information collection in support of Form RD 410-8 “Applicant Reference Letter.”

DATES: Comments on this notice must be received by April 10, 2006 to be assured of consideration.

FOR FURTHER INFORMATION CONTACT: Gale Richardson, Loan Specialist, Single Family Housing, Rural Housing Service, 1400 Independence Avenue, SW., Mail Stop 0783, Washington, DC 20250-0783, Telephone 202-720-1459.

SUPPLEMENTARY INFORMATION: Title: Form RD 410-8, “Applicant Reference Letter.”

OMB Number: 0575-0091.

Expiration Date of Approval: June 30, 2006.

Type of Request: Extension of a currently approved information collection.

Abstract: The Rural Housing Service (RHS), under Section 502 of Title V of the Housing Act of 1949, as amended, provides financial assistance to construct, improve, alter, repair, replace, or rehabilitate dwellings, which will provide modest, decent, safe, and sanitary housing to eligible individuals in rural areas. To assist a customer, they must provide the Agency with a standard housing application (used by government and private lenders), and provide documentation, including their credit history, to support the same. Form RD 410-8 is used to obtain information about an applicant's credit history that might not appear on a credit report. It is used to document an ability to handle credit effectively for applicants who have not used sources of credit that appear on a credit report. This form provides a mechanism for following up on repayment history for debts reported by the applicant on the application that do not appear on the credit report. This information is used by the Loan Originator serving the area in which the applicant or borrower will live to determine whether the applicant's credit history meets the Agency criteria. In addition to supplementing or verifying other debts when a credit report is limited and unavailable to determine the applicant's eligibility and credit worthiness, the Form RD 410-8 is widely used by the Agency because credit reports are not always used to obtain credit information when an applicant/borrower lives in a remote area.

RHS must, by law, make available to the applicant, upon request, the source of information used to make an adverse decision. Individual references may be solicited with the clear understanding that if the information is used to deny credit the information will be made available to the applicant upon request. Without this information, the Agency is unable to determine if a customer would qualify for services.

Estimate of Burden: Public burden for this collection of information is estimated to average 6 minutes per response.

Respondents: Applicants seeking direct single family housing loans and grants from the Agency.

Estimated Number of Respondents: 13,466.

Estimated Number of Responses per Respondent: 1.

Estimated Number of Responses: 13,466.

Estimated Total Annual Burden on Respondents: 1,346 hours.

Copies of this information collection can be obtained from Brigitte Sumter, Regulations and Paperwork Management Branch, at (202) 692-0042.

Comments

Comments are invited on: (a) Whether the proposed collection of information is necessary for the proper performance of the functions of the Rural Housing Service, including whether the information will have practical utility; (b) the accuracy of the Rural Housing Service's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

Comments may be sent to Brigitte Sumter, Regulations and Paperwork Management Branch, U.S. Department of Agriculture, Rural Development, STOP 0742, 1400 Independence Ave. SW., Washington, and DC 20250-0742. All responses to this notice will be summarized and included in the request for OMB approval. All comments will also become a matter of public record.

Dated: February 2, 2006.
Russell T. Davis,
Administrator, Rural Housing Service.

[FR Doc. E6-1749 Filed 2-8-06; 8:45 am]

BILLING CODE 3410-XV-P